NUCLEAR REGULATORY COMMISSION

Request for a License To Import Radioactive Waste

Pursuant to 10 CFR 110.70 (b) “Public Notice of Receipt of an Application,” please take notice that the Nuclear Regulatory Commission (NRC) has received the following request for an import license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 Fed. Reg 49139 (Aug. 28, 2007). Information about filing electronically is available on the NRC's public Web site at http://www.nrc.gov/site-help/e-submittals.html. To ensure timely electronic filing, at least 5 (five) days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this import license application follows.

NRC IMPORT LICENSE APPLICATION
[Description of material]
Name of applicant Date of application Date received application No. docket No. | Material type | Total quantity | End use | Country from
Perma-Fix Northwest Richland, Inc., February 14, 2012, February 16, 2012, IW031, 11005985 | Radioactive waste consisting of various radioactively contaminated materials for thermal destruction | Up to 500 tons of combustible and noncombustible materials. Total combined activity level for all radionuclides not to exceed 17.3 TBq. Special nuclear material not to exceed 350 grams U-235. Source material not to exceed 5000 kilograms | Thermal destruction for volume reduction at Perma-Fix Northwest in Richland, WA. The resultant ash and non-incinerable/non-conforming material will be returned to Mexico under XW019 | Mexico.

For the Nuclear Regulatory Commission.
Dated this 28th day of March 2012 at Rockville, Maryland.
Stephen Dembek,
Acting Deputy Director, Office of International Programs.

[FR Doc. 2012-7945 Filed 4-2-12; 8:45 am]

BILLING CODE 7590-01-P